FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the notices are set forth in paragraph 7 of the Act (12 U.S.C. 1817(j)(7)).

The applications listed below, as well as other related filings required by the Board, if any, are available for immediate inspection at the Federal Reserve Bank indicated. The applications will also be available for inspection at the offices of the Board of Governors. Interested persons may express their views in writing on the standards enumerated in paragraph 7 of the Act.

Comments regarding each of these applications must be received at the Federal Reserve Bank indicated or the offices of the Board of Governors, Ann E. Misback, Secretary of the Board, 20th Street and Constitution Avenue NW, Washington, DC 20551-0001, not later than December 2, 2019.

A. Federal Reserve Bank of Kansas City (Dennis Denney, Assistant Vice President) 1 Memorial Drive, Kansas City, Missouri 64198-0001:

1. The Kathryn J. Kelly Special Trust, Ken K. Kelly, trustee, both of Severy, Kansas; to retain voting shares of Elk County Bancshares, Inc., and thereby indirectly retain voting shares of Howard State Bank, both of Howard, Kansas.

A. Federal Reserve Bank of Minneapolis (Mark A. Rauzi, Vice President) 90 Hennepin Avenue, Minneapolis, Minnesota 55480-0291:

1. The Dawn M. Skeie Crane GST Trust, Dawn M. Skeie as trustee, both of Fosston, Minnesota; and the Lorri J. Skeie-Campbell GST Trust, Lorri J. Skeie-Campbell as trustee, both of Corrales, New Mexico; to be approved as members acting in concert with the Skeie Family Control Group to retain voting shares of Financial Services of Winger, Inc., and thereby indirectly retain voting shares of Ultima Bank Minnesota, both of Winger, Minnesota.

Board of Governors of the Federal Reserve System, November 13, 2019.
Yao-Chin Chao,
Assistant Secretary of the Board.

[FR Doc. 2019-24969 Filed 11-14-19; 8:45 am]

BILLING CODE P